DEPARTMENT OF TRANSPORTATION

Federal Railroad Administration

[Docket No. FRA-2017-0002-N-15]

Survey of Plant and Insular Tourist Railroads Subject to FRA Bridge Safety Standards

AGENCY: Federal Railroad Administration (FRA) Department of Transportation (DOT).

ACTION: Notice and request for information.

SUMMARY: FRA is issuing this notice to supplement a prior notice and request for comments by which FRA requested railroads serving a plant, and moving railroad equipment over bridges within the plant, or the plant itself, to advise FRA by email or telephone if there are railroad bridges within the plant potentially subject to FRA Bridge Safety Standards. FRA also requested insular tourist railroads with tracks supported by one or more bridges to advise FRA of the existence of their bridges by email or telephone. This notice provides the email address railroads should use and extends the date to submit comments in response to the prior notice.

DATES: Comments must be received no later than July 21, 2017.

FOR FURTHER INFORMATION CONTACT: David Killingbeck, Chief Engineer—Structures, Bridge & Structures Division, Office of Technical Oversight, FRA, 1200 New Jersey Avenue SE., 3rd Floor—West, Washington, DC, 20590, (202) 493-6251.

SUPPLEMENTARY INFORMATION: Email notifications responding to FRA's notice and request for information published April 11, 2017 (see 82 FR 17498) should be sent to FRAPlantTouristSurvey@dot.gov and include the name of the plant or insular tourist railroad, that entity's address (including city and State), and a contact name, telephone number, and email address. Notification may also be made by telephone to David Killingbeck at (202) 493-6251. The date for comments in response to the notice and request for information published in the Federal Register on April 11, 2017, has been extended to the date listed in the DATES section above.

John Seguin,
Acting Chief Counsel.

[FR Doc. 2017-10294 Filed 5-19-17; 8:45 am]

BILLING CODE 4910-06-P